DEPARTMENT OF LABOR

Employment and Training Administration

[TA-W-71,630]

Sheet Metal Workers Internationl Association, Local 292: Troy, MI; Notice of Termination of Investigation

Pursuant to Section 223 of the Trade Act of 1974, as amended, an investigation was initiated in response to a petition filed on July 13, 2009 on behalf of workers of Steel Metal Workers International Association, Local 292, Troy, Michigan.

The petitioning workers were filing on behalf of workers employed by several unaffiliated firms.

The petition regarding the investigation has been deemed invalid. Consequently, the investigation has been terminated.

Signed at Washington, DC, this 26th day of February, 2010.
Michael W. Jaffe,
Certifying Officer, Division of Trade Adjustment Assistance.

[FR Doc. 2010-6922 Filed 3-29-10; 8:45 am]

BILLING CODE 4510-FN-P